DEPARTMENT OF HEALTH AND HUMAN SERVICES

Administration for Children and Families

Submission for OMB Review; Comment Request

Title: The OCSE-157 Child Support Enforcement Annual Data Report.

OMB No.: 0970-0177.

Description: The information obtained from this form will be used to report Child Support Enforcement activities to the Congress as required by law, to complete incentive measure and performance indicators utilized in the program, and to assist the Office of Child Support Enforcement in monitoring and evaluating State Child Support Enforcement programs.

Respondents: State, Local and Tribal Govt.

Annual Burden Estimates
Instrument | No. of respondents | No. of responses per respondent | Average burden hours per response | Total burden hours
OCSE-157 | 54 | 1 | 4 | 216
Estimated Total Annual Burden Hours |  |  |  | 216

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: March 6, 2001.
Bob Sargis,
Reports Clearance Officer.

[FR Doc. 01-5971 Filed 3-9-01; 8:45 am]

BILLING CODE 4184-01-M